DEPARTMENT OF COMMERCE

International Trade Administration

Mission Statement; Aerospace Supplier Development Mission to China; October 26-November 4, 2008

AGENCY: Department of Commerce.

ACTION: Notice.

Mission Description

The Aerospace Supplier Development Mission to China was developed in response to requests from many small and medium-sized enterprises (SMEs) supplying the aviation industry, and is intended to include representatives from a variety of U.S. aerospace industry manufacturers and service providers. The mission will introduce these suppliers to end-users and prospective partners whose needs and capabilities are targeted to each U.S. participant's strengths. Participating in an official U.S. industry delegation will enhance the companies' ability to secure meetings in China. The mission will include appointments and briefings in Beijing, Shanghai, Suzhou, and Guangzhou, some of China's major aerospace industry hubs, as well as participation in Airshow China in Zhuhai to conclude the mission. The mission participants will also have opportunities to interact extensively with CS China aviation specialists.

Commercial Setting

The Chinese aerospace sector ranks among the world's most dynamic, going far beyond the country's massive investment in aircraft (mainland carriers anticipate doubling the size of their fleets to 1,500 by 2010, reaching 4,000 by 2025). Chinese aerospace companies have rapidly developed into serious players in the industry's global value chain. Chinese aerospace firms, including those linked to U.S. and European “primes,” now frequently make their own sourcing decisions, participate as “risk sharing partners” in new airframe and engine development programs, or take on the role of first-tier suppliers on Chinese programs.

The evolution of China's aerospace industry is part of a broader industry trend toward supply chain consolidation and the embrace of lean manufacturing. Many traditional Tier 1 supplier responsibilities are being pushed down the supply chain to second- and third-tier suppliers. As the larger firms move into aerospace system integration, the lower-tier suppliers have little choice but to globalize themselves. This involves supplying China with products and services that might historically have been provided to U.S. and European suppliers that have since shifted production. In many cases, once established in China, the first-tier firms require their supply chain partners to begin dealing directly with Chinese members of the supply chain. While extremely challenging for SME suppliers, these new relationships bring an added benefit—the opportunity for additional sales with other aerospace companies doing business in China.

China Aviation Industry Corporation I and II (AVIC I and II), conglomerates of hundreds of companies, control the country's aerospace industry. Over the years, the main AVIC companies have formed joint-venture companies with key Western aerospace partners. The larger AVIC companies also have so-called “foreign divisions” engaged in manufacturing, design and engineering for Western customers on a semi-autonomous basis.

Mission Goals

The goals of the Aerospace Supply Chain Development Mission to China are threefold: (1) To introduce U.S. companies to Chinese joint-venture groups and Western original equipment manufacturers (OEMs); (2) to explore supplier opportunities under other aerospace programs (including Chinese programs and Western programs with Chinese firms “risk sharing”); and (3) to facilitate an effective U.S. presence at Airshow China.

Mission Scenario

The mission's first stop is Beijing, home to AVIC's headquarters and the China National Aero-Technology Import and Export Corporation (CATIC), AVIC's trading and purchasing division. The second and third stops are Shanghai and nearby Suzhou, home to many AVIC companies (including the former MD-88 assembly site), AVIC joint-ventures, and autonomous Western OEMs. The fourth stop, Guangzhou, provides the opportunity to focus on Guangzhou Aircraft Maintenance Engineering Company Limited (GAMECO) as an example of a maintenance/repair/overhaul operation and a meeting with China Southern Airlines. The mission will conclude in nearby Zhuhai, at the China International Aviation and Aerospace Exhibition (known as Airshow China), the only Chinese aerospace exhibition endorsed by the Chinese central government. The last Airshow China, in 2006, showcased 52 aircraft and attracted some 550 exhibitors from more than 33 countries, as well as 90,000 trade visitors and 1,500 journalists. CS Guangzhou will provide entry to the trade show, manage a booth, and organize one half day of meetings with business and industry contacts for each of the mission participants.

Matchmaking efforts will involve coordination with the American Chamber of Commerce in China's U.S.-China Aviation Cooperation Program (ACP), a public/private partnership promoting technical, policy and commercial cooperation between the two countries' aviation sectors, and with other relevant groups, such as the Suzhou Economic Development Zone. Also, through an exclusive arrangement with Airshow China exhibition organizers, the mission participants will gain access to VIP receptions and additional assistance with matchmaking appointments at the show. U.S. participants will be counseled before, during, and after the mission by U.S. Export Assistance Center trade specialists, primarily by members of the Aerospace and Defense Technology Team.

Participation in the Aerospace Supply Chain Development Mission to China will include the following:

• Pre-travel briefings/webinar on subjects ranging from Chinese business practices to security;

• Pre-scheduled meetings with potential partners, distributors, end users, or local industry contacts in Beijing, Shanghai, Suzhou, Guangzhou, and at Airshow China in Zhuhai;

• Transportation to airports in Beijing and Shanghai;

• Coach class airline ticket between Beijing and Shanghai;

• Bus transportation between Shanghai and Suzhou;

• Coach class airline ticket between Shanghai and Guangzhou;

• One Airshow China entry pass per company representative;

• Participation in industry receptions at Airshow China;

• Meetings with CS China aviation industry specialists in Beijing, Shanghai and Guangzhou.

Proposed Timetable
Sunday, October 26, 2008 | Participants arrive in Beijing on their own schedule.
| Afternoon briefing at Kerry Centre Hotel.
Monday, October 27, Tuesday, October 28 | Pre-scheduled matchmaking appointments, focusing on contacts at AVIC 1 and CATIC.
| Briefing on Civil Aviation Administration of China (CAAC) standards and regulations.
| Roundtable with the ACP.
| Networking reception.
Wednesday, October 29 | Flight to Shanghai.
| Single Company Promotion/U.S. Aerospace Suppliers' Technical Sales Forum.
| Half day of one-on-one meetings.
Thursday, October 30 | One-on-one appointments, visits to major Shanghai Aerospace firms (e.g., SAIC).
| Afternoon bus travel to nearby Suzhou.
| Appointments, coordinated with the Suzhou Economic Development Zone.
Friday, October 31 | Appointments continue.
Saturday, November 1 | Follow-up appointments, as needed, and optional sightseeing.
Sunday, November 2 | Flight to Guangzhou.
Monday, November 3 | Networking breakfast with the American Chamber of Commerce.
| Meeting with GAMECO's Procurement Department and China Southern Airlines' Procurement Department, with technical tour of the facilities.
| Afternoon bus trip to Zhuhai (approximately 1 hour).
| Attend Airshow China's official opening (early evening).
Tuesday, November 4 | Pre-scheduled appointments at Airshow China.
| VIP reception (by special invitation).
| Mission concludes in evening.
| Participants free to depart Zhuhai via the ferry to Hong Kong.

Participation Requirements

All parties interested in participating in the Aerospace Supplier Development Mission to China must complete and submit an application for consideration by the Department of Commerce. All applicants will be evaluated on their ability to meet certain conditions and best satisfy the selection criteria as outlined below. The mission will open on a first come first served basis to 10 qualified U.S. companies.

Fees and Expenses

After a company has been selected to participate on the mission, a payment to the Department of Commerce in the form of a participation fee is required. The participation fee will be $5,000 for large firms and $4,150 for a small or medium-sized enterprise (SME), which includes one principal representative.* The fee for each additional firm representative (large firm or SME) is $600. Expenses for lodging, some meals, incidentals, and travel (except for in-country arrangements previously noted) will be the responsibility of each mission participant.

* An SME is defined as a firm with 500 or fewer employees or that otherwise qualifies as a small business under SBA regulations (see http://www.sba.gov/services/contracting opportunities/sizestandardstopics/index.html). Parent companies, affiliates, and subsidiaries will be considered when determining business size. The dual pricing schedule reflects the Commercial Service's user fee schedule that became effective May 1, 2008 (for additional information see http://www.export.gov/newsletter/march2008/initiatives.html).

Conditions for Participation

• An applicant must submit a completed and signed mission application and supplemental application materials, including adequate information on the company's products and/or services, primary market objectives, and goals for participation.

• Each applicant must also certify that the products and services it seeks to export through the mission are either produced in the United States, or, if not, marketed under the name of a U.S. firm and have at least fifty-one percent U.S. content.

Selection Criteria for Participation

Selection will be based on the following criteria:

• Suitability of a company's products or services to the mission's goals

• Consistency of the company's goals and objectives with the stated scope of the trade mission

• Timeliness of company's signed application and participation agreement

• Timely and adequate provision of information on company's products/services and market objectives, in order to facilitate appropriate matching with potential business partners

Any partisan political activities (including political contributions) of an applicant are entirely irrelevant to the selection process.

Timeframe for Recruitment and Applications

Mission recruitment will be conducted in an open and public manner, including publication in the Federal Register, posting on the Commerce Department trade mission calendar (http://www.ita.doc.gov/doctm/tmcal.html) and other Internet Web sites, press releases to general and trade media, direct mail, broadcast fax, notices by industry trade associations and other multiplier groups, and publicity at industry meetings, symposia, conferences, and trade shows. Recruitment for the mission will begin immediately and conclude no later than August 29, 2008. Applications received after that date will be considered only if space and scheduling constraints permit.

Contacts

Mr. Eric Nielsen, ITA Aerospace and Defense Technology Team, Arizona U.S. Export Assistance Center, Tel: (520) 670-5808, E-mail: eric.nielsen@mail.doc.gov;

Mr. William Lawton, ITA Aerospace and Defense Technology Team, Miami U.S. Export Assistance Center, Tel: (305) 526-7425, ext. 26, E-mail: William.lawton@mail.doc.gov.

Eric Nielsen,
Director, Arizona U.S. Export Assistance Center.

[FR Doc. E8-15838 Filed 7-15-08; 8:45 am]

BILLING CODE 3510-DS-P